ENVIRONMENTAL PROTECTION AGENCY

[EPA-HQ-OAR-2023-0118; FRL- 11865-01-OMS]

Agency Information Collection Activities; Submission to Office of Management and Budget for Review and Approval; Comment Request; NSPS for Onshore Natural Gas Processing Plants (Renewal)

AGENCY: Environmental Protection Agency (EPA).

ACTION: Notice.

SUMMARY: The Environmental Protection Agency (EPA) has submitted an information collection request (ICR), NSPS for Onshore Natural Gas Processing Plants (EPA ICR Number 1086.13, OMB Control Number 2060-0120), to the Office of Management and Budget (OMB) for review and approval in accordance with the Paperwork Reduction Act. This is a proposed extension of the ICR, which is currently approved through April 30, 2024. Public comments were previously requested via the Federal Register on May 18, 2023, during a 60-day comment period. This notice allows for an additional 30 days for public comments.

DATES: Comments may be submitted on or before May 24, 2024.

ADDRESSES: Submit your comments, referencing Docket ID Number EPA-HQ-OAR-2023-0118, to EPA online using www.regulations.gov (our preferred method), by email to a-and-r-Docket@epa.gov, or by mail to: EPA Docket Center, Environmental Protection Agency, Mail Code 28221T, 1200 Pennsylvania Ave., NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this specific information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through April 30, 2024. An Agency may neither conduct nor sponsor, and a person is not required to respond to, a collection of information unless it displays a currently valid OMB control number.

Public comments were previously requested via the Federal Register on May 18, 2023, during a 60-day comment period (88 FR 31748). This notice allows for an additional 30 days for public comments. Supporting documents which explain in detail the information that the EPA will be collecting are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Onshore Natural Gas Processing Plants (40 CFR part 60, subpart KKK) were proposed on January 20, 1984, promulgated on June 24, 1985, and most recently amended on August 16, 2012. These regulations apply to Volatile Organic Compound (VOC) emissions at existing facilities located at onshore natural gas processing plants: compressors in equipment leaks of VOC service or in wet gas service, and the groups of all equipment (except compressors) within a process unit. This information is being collected to assure compliance with 40 CFR part 60, subpart KKK.

The New Source Performance Standards for Onshore Natural Gas Processing Plants (40 CFR part 60, subpart LLL) were proposed on January 20, 1984, promulgated on October 1, 1985, and most recently amended on August 16, 2012. These regulations apply to sulfur dioxide (SO2) emissions at the following types of existing facilities located at onshore natural gas processing plants: each sweetening unit, and each sweetening unit followed by a sulfur recovery unit. The provisions of Subpart LLL do not apply to sweetening facilities that produce acid gas that is completely re-injected into oil or gas bearing geologic strata or that is otherwise not released to the atmosphere, or to affected facilities with design capacities of less than two long tons per day (LT/D) of hydrogen sulfide in the acid gas, expressed as sulfur. This information is being collected to assure compliance with 40 CFR part 60, subpart LLL.

Form Numbers: None.

Respondents/affected entities: Owners and operators of onshore natural gas processing plants that commenced construction, reconstruction, or modification after January 20, 1984, and on or before August 23, 2011.

Respondent's obligation to respond: Mandatory (40 CFR part 60, subparts KKK and LLL).

Estimated number of respondents: 305 (total).

Frequency of response: Semiannually.

Total estimated burden: 56,900 hours (per year). Burden is defined at 5 CFR 1320.3(b).

Total estimated cost: $ 7,260,000 (per year), which includes $ 97,001 in annualized capital/startup and/or operation & maintenance costs.

Changes in the Estimates: There is an adjustment decrease in the total estimated burden as currently identified in the OMB Inventory of Approved Burdens. This decrease is not due to any program changes. The change in the burden and cost estimates occurred because the number of respondents subject to these requirements has decreased as those respondents modify their sources and become subject to another NSPS standard. This estimate assumes the same growth rate as stated in the previous ICR. As sources subject to NSPS Subparts KKK and LLL modify, they become subject to NSPS Subpart OOOOa and cease being subject to NSPS Subparts KKK and LLL. Although there is a decrease in the overall burden, there is an increase in the operation & maintenance costs due to an adjustment to increase from 2008 to 2022 $ using the CEPCI Equipment Cost Index.

Courtney Kerwin,
Director, Regulatory Support Division.

[FR Doc. 2024-08684 Filed 4-23-24; 8:45 am]

BILLING CODE 6560-50-P